NUCLEAR REGULATORY COMMISSION

[Docket No. 50-150]

Ohio State University Research Reactor; Notice of Issuance of Renewed Facility License No. R-75

The U.S. Nuclear Regulatory Commission (NRC) has issued renewed Facility License No. R-75, held by Ohio State University (the licensee), which authorizes continued operation of the Ohio State University Research Reactor (OSURR), located in Columbus, Franklin County, Ohio. The OSURR is a pool-type, light-water-moderated-and-cooled research reactor licensed to operate at a steady-state power level of 500 kilowatts thermal power. Renewed Facility License No. R-75 will expire at midnight 20 years from its date of issuance.

The renewed license complies with the standards and requirements of the Atomic Energy Act of 1954, as amended (the Act), and the Commission's rules and regulations. The Commission has made appropriate findings as required by the Act and the Commission's regulations in Title 10, Chapter 1, “Nuclear Regulatory Commission,” of the Code of Federal Regulations (10 CFR), and sets forth those findings in the renewed license. The agency afforded an opportunity for hearing in the Notice of Opportunity for Hearing published in the Federal Register on August 2, 2006, at 71 FR 43818, and September 1, 2006, at 71 FR 52173. The NRC received no request for a hearing or petition for leave to intervene following those notices.

The NRC staff prepared a safety evaluation report for the renewal of Facility License No. R-75 and concluded, based on that evaluation, that the licensee can continue to operate the facility without endangering the health and safety of the public. The NRC staff also prepared an environmental assessment for license renewal, noticed in the Federal Register on April 14, 2008, at 73 FR 20072, and concluded, based on that assessment, that renewal of the license will not have a significant impact on the quality of the human environment.

For details with respect to the application for renewal, see the licensee's letter dated December 15, 1999 (ADAMS Accession No. ML993610185), as supplemented by letters dated August 21, 2002 (ADAMS Accession No. ML022380431); August 18, 2005 (ADAMS Accession No. ML052350564); July 26, 2006 (ADAMS Accession No. ML062090072); May 22, 2007 (ADAMS Accession No. ML071430417); May 31, 2007 (ADAMS Accession No. ML071550098); September 4, 2007 (ADAMS Accession No. ML072490367); September 28, 2007 (ADAMS Accession No. ML072750038); and February 29, 2008 (ADAMS Accession No. ML080650352). For details with respect to the issuance of the renewed facility license, see renewed Facility License No. R-75 (ADAMS Accession No. ML081000618), the related safety evaluation report (ADAMS Accession No. ML081000618), and the related environmental assessment dated April 7, 2008 (ADAMS Accession No. ML070230004). Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the NRC Web site, http://www.nrc.gov/reading-rm/adams.html. Persons who do not have access to ADAMS or who encounter problems in accessing the documents located in ADAMS should contact the NRC PDR Reference staff at 1-800-397-4209 or 301-415-4737, or send an e-mail to pdr@nrc.gov.

Dated at Rockville, Maryland, this 18th day of June, 2008.
For the Nuclear Regulatory Commission.
Daniel S. Collins,
Chief, Research and Test Reactors Branch A, Division of Policy and Rulemaking, Office of Nuclear Reactor Regulation.

[FR Doc. E8-14486 Filed 6-25-08; 8:45 am]

BILLING CODE 7590-01-P